DEPARTMENT OF COMMERCE

Foreign-Trade Zones Board

[B-68-2013]

Foreign-Trade Zone (FTZ) 32—Miami, Florida; Notification of Proposed Production Activity; Brightstar Corporation; (Cell Phone Kitting); Miami, Florida

The Greater Miami Chamber of Commerce, grantee of FTZ 32, submitted a notification of proposed production activity to the FTZ Board on behalf of Brightstar Corporation (Brightstar), located in Miami, Florida. The notification conforming to the requirements of the regulations of the FTZ Board (15 CFR 400.22) was received on June 26, 2013.

The Brightstar facility is located within Site 6 of FTZ 32. The facility is used for the kitting of cell phones and cell phone accessories. Pursuant to 15 CFR 400.14(b), FTZ activity would be limited to the specific foreign-status materials and components and specific finished products described in the submitted notification (as described below) and subsequently authorized by the FTZ Board.

Production under FTZ procedures could exempt Brightstar from customs duty payments on the foreign status components used in export production. On its domestic sales, Brightstar would be able to choose the duty rates during customs entry procedures that apply to cell phones (duty rate 0%) for the foreign status inputs noted below. Customs duties also could possibly be deferred or reduced on foreign status production equipment.

The components and materials sourced from abroad include: decals; plastic holsters; leather carrying cases; leather pouches; plastic carrying cases; leather straps; wrist straps; power supplies; lithium batteries; nicad batteries; line telephone sets; video phones; bases stations; voice reception, conversion, regeneration and transmission machinery; microphones and stands; external speaker sets; headsets with microphones; hands-free speaker kits; telephone answering machines and associated parts and accessories; video recorders and associated parts and accessories; transceivers and associated parts and accessories; monitors and projectors and associated parts and accessories; connectors and plugs; key pads with connectors; thermionic, cold cathode and photocathode tubes; and, cables (duty rate ranges from 0 to 17.6%).

Public comment is invited from interested parties. Submissions shall be addressed to the Board's Executive Secretary at the address below. The closing period for their receipt is August 12, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Christopher Kemp at Christopher.Kemp@trade.gov or (202) 482-0862.

Dated: June 26, 2013.
Elizabeth Whiteman,
Acting Executive Secretary.

[FR Doc. 2013-15891 Filed 7-1-13; 8:45 am]

BILLING CODE 3510-DS-P